FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 217-011688.

Title: Iceland Steamship/Samskip Slot Charter Agreement.

Parties: Iceland Steamship Company Ltd. (Eimskip) Samskip hf.

Synopsis: Under the proposed agreement, Samskip agrees to charter space on Eimskip vessels in the trade between U.S. East Coast ports and Iceland. This agreement replaces the parties' previous agreement that expired on January 31, 2000. The parties request expedited review.

By Order of the Federal Maritime Commission.
Dated: February 4, 2000.
Bryant L. VanBrakle,
Secretary.

[FR Doc. 00-2939 Filed 2-8-00; 8:45 am]

BILLING CODE 6730-01-P